NATIONAL TRANSPORTATION SAFETY BOARD

Sunshine Act Meeting

TIME AND PLACE: 9:30 A.M., Tuesday, October 23, 2001.

PLACE: NTSB Conference Center, 429 L'Enfant Plaza SW., Washington, DC 20594.

STATUS The one item is Open to the Public.

MATTER TO BE CONSIDERED: 7195A Aviation Accident Report—Runway Overrun During Landing, Involving American Airlines Flight 1420, McDonnell Douglas MD-82, N215AA, Little Rock, Arkansas, June 1, 1999.

NEWS MEDIA CONTACT: Telephone: (202) 314-6100.

Individuals requesting specific accommodations should contact Mr. Carolyn Dargan at (202) 314-6305 by Friday, October 19, 2001.

FOR FURTHER INFORMATION CONTACT: Vicky D'Onofrio, (202) 314-6410.

Dated: October 12, 2001.
Vicky D'Onofrio,
Federal Register Liaison Officer.

[FR Doc. 01-26110 Filed 10-12-01; 11:46 am]

BILLING CODE 7533-01-P